DEPARTMENT OF STATE

[Public Notice: 6414]

Bureau of Verification, Compliance and Implementation: Imposition of Measures Against Foreign Persons, Including a Ban on U.S. Government Procurement

AGENCY: Department of State.

ACTION: Notice.

SUMMARY: A determination has been made that thirteen foreign persons have engaged in activities that warrant the imposition of measures pursuant to Section 3 of the Iran, North Korea, and Syria Nonproliferation Act, which provides for penalties on entities and individuals for the transfer to or acquisition from Iran since January 1, 1999, the transfer to or the acquisition from Syria since January 1, 2005, or the transfer to or acquisition from North Korea since January 1, 2006, of equipment and technology controlled under multilateral control lists (Missile Technology Control Regime, Australia Group, Chemical Weapons Convention, Nuclear Suppliers Group, Wassenaar Arrangement) or otherwise having the potential to make a material contribution to the development of weapons of mass destruction (WMD) or cruise or ballistic missile systems. The latter category includes (a) Items of the same kind as those on multilateral lists but falling below the control list parameters, when it is determined that such items have the potential of making a material contribution to WMD or cruise or ballistic missile systems, (b) other items with potential of making such a material contribution, when added through case-by-case decisions, and (c) items on U.S. national control lists for WMD/missile reasons that are not on multilateral lists.

DATES: Effective Date: October 23, 2008.

FOR FURTHER INFORMATION CONTACT: On general issues: Mr. Stephen J. Tomchik, Bureau of Verification, Compliance, and Implementation, Department of State. Telephone (202) 647-1192. For U.S. Government procurement ban issues: Kimberly Triplett, Office of the Procurement Executive, Department of State, Telephone: (703) 875-4079.

SUPPLEMENTARY INFORMATION: Pursuant to Sections 2 and 3 of the Iran, North Korea and Syria Nonproliferation Act (P.L. 109-353), the U.S. Government determined on August 12, 2008 that the measures authorized in Section 3 of the Act shall apply to the following foreign persons identified in the report submitted pursuant to Section 2(a) of the Act:

China Xinshidai Company (China) and any successor, sub-unit, or subsidiary thereof;

China Shipbuilding and Offshore International Corporation, LTD (China) and any successor, sub-unit, or subsidiary thereof;

Huazhong CNC (China) and any successor, sub-unit, or subsidiary thereof;

Islamic Revolutionary Guard Corps (IRGC) (Iran) and any successor, sub-unit, or subsidiary thereof;

Korea Mining Development Corporation (North Korea) and any successor, sub-unit, or subsidiary thereof;

Korea Taesong Trading Company (North Korea) and any successor, sub-unit, or subsidiary thereof;

Yolin/Yullin Tech, Inc., Ltd. (South Korea) and any successor, sub-unit, or subsidiary thereof;

Rosoboronexport (ROE) (Russia) and any successor, sub-unit, or subsidiary thereof;

Sudan Master Technology (Sudan) and any successor, sub-unit, or subsidiary thereof;

Sudan Technical Center Company (STC) (Sudan) and any successor, sub-unit, or subsidiary thereof;

Army Supply Bureau (Syria) and any successor, sub-unit, or subsidiary thereof;

R and M International FZCO (United Arab Emirates) and any successor, sub-unit, or subsidiary thereof;

Venezuelan Military Industries Company (CAVIM) (Venezuela) and any successor, sub-unit, or subsidiary thereof.

According, pursuant to the provisions of the Act, the following measures are imposed on these entities:

1. No department or agency of the United States Government may procure, or enter into any contract for the procurement of any goods, technology, or services from these foreign persons, except to the extent that the Secretary of State otherwise may have determined;

2. No department or agency of the United States Government may provide any assistance to the foreign persons, and these persons shall not be eligible to participate in any assistance program of the United States Government, except to the extent that the Secretary of State otherwise may have determined;

3. No United States Government sales to the foreign persons of any item on the United States Munitions List are permitted, and all sales to these persons of any defense articles, defense services, or design and construction services under the Arms Export Control Act are terminated; and

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State may subsequently determine otherwise. A new determination will be made in the event that circumstances change in such a manner as to warrant a change in the duration of sanctions.

Dated: October 16, 2008.
Stephen A. Elliott,
Acting Assistant Secretary for Verification, Compliance, and Implementation, Department of State.

[FR Doc. E8-25316 Filed 10-22-08; 8:45 am]

BILLING CODE 4710-27-P